DEPARTMENT OF HOUSING AND URBAN DEVELOPMENT

[Docket No. FR-4837-D-24]

Revocation and Redelegation of Authority Under Section 504 of the Rehabilitation Act of 1973

AGENCY: Office of the Assistant Secretary for Fair Housing and Equal Opportunity, HUD.

ACTION: Notice of revocation and redelegation of authority.

SUMMARY: The Assistant Secretary for Fair Housing and Equal Opportunity (FHEO) revokes all prior redelegations of authority made within the office of the Assistant Secretary for FHEO under section 504 of the Rehabilitation Act of 1973 and HUD's implementing regulations, and redelegates this authority, with noted exceptions, to the General Deputy Assistant Secretary for FHEO. The General Deputy Assistant Secretary for FHEO, in turn, redelegates certain authority to the Deputy Assistant Secretary for Enforcement and Programs to the Director of the Office of Enforcement and to the FHEO Hub Directors.

EFFECTIVE DATE: July 25, 2003.

FOR FURTHER INFORMATION CONTACT: Milton Turner, Director of Compliance and Disability Rights Division, Office of Fair Housing and Equal Opportunity, Room 5240, Department of Housing and Urban Development, 451 Seventh Street, SW., Washington, DC 20410-2000. Telephone: (202) 708-2333. (This is not a toll-free number.) Hearing- and speech-impaired individuals may access this number through TTY by calling the toll-free Federal Information Relay Service number at 1-800-877-8339.

SUPPLEMENTARY INFORMATION: The Secretary has delegated to the Assistant Secretary for FHEO the authority to act as “responsible civil rights official” and “reviewing civil rights official” under section 504 of the Rehabilitation Act of 1973 and HUD's implementing regulations in 24 CFR part 8. The Assistant Secretary for FHEO, through this notice, redelegates the authority to act as the “responsible civil rights official” to the General Deputy Assistant Secretary for FHEO, who in turn, redelegates this authority to the Deputy Assistant Secretary for Enforcement and Programs, to the Director of the Office of Enforcement and to the FHEO Hub Directors. The Assistant Secretary for FHEO also redelegates the authority to act as “reviewing civil rights official,” in accordance with 24 CFR 8.56(h), to the General Deputy Assistant Secretary for FHEO, who in turn further redelegates this authority to the Deputy Assistant Secretary for Enforcement and Programs and to the Director of the Office of Enforcement.

Accordingly, the Assistant Secretary for FHEO and the General Deputy Assistant Secretary for FHEO delegate authority as follows:

Section A. Authority Redelegated

The Assistant Secretary for FHEO redelegates to the General Deputy Assistant Secretary for FHEO the authority to act as the “responsible civil rights official.” The General Deputy Assistant Secretary for FHEO redelegates this authority to the Deputy Assistant Secretary for Enforcement and Programs, to the Director of the Office of Enforcement and to the FHEO Hub Directors.

The Assistant Secretary for FHEO redelegates to the General Deputy Assistant Secretary for FHEO authority to act as “reviewing civil rights official,” in accordance with in 24 CFR 8.56(h). The General Deputy Assistant Secretary for FHEO redelegates this authority to the Deputy Assistant Secretary for Enforcement and Programs, and to the Director of the Office of Enforcement.

Section B. Authority Excepted

The authority redelegated from the Assistant Secretary for FHEO does not include the authority to issue or waive regulations.

The authority redelegated to the Director of the Office of Enforcement, and to the FHEO Hub Directors does not include the authority, under 24 CFR 8.57(a) and (e)(1), to determine that compliance cannot be effectuated through informal resolution.

The authority redelegated to the General Deputy Assistant Secretary for FHEO, to the Deputy Assistant Secretary for Enforcement and Program, to the Director of the Office of Enforcement, and to the FHEO Hub Directors does not include the authority, as set forth in 24 CFR 8.57(c), to terminate or refuse to grant or continue federal financial assistance for noncompliance.

Section C. Authority Revoked

All prior redelegations of authority made within the office of the Assistant Secretary for FHEO under section 504 of the Rehabilitation Act of 1973 are revoked, including, but not limited to, the redelegaton at 63 FR 11905 (March 11, 1998).

Authority: Section 7(d) of the Department of Housing and Urban Development Act, 42 U.S.C. 3535(d).

Dated: July 25, 2003.
Carolyn Y. Peoples,
Assistant Secretary for Fair Housing and Equal Opportunity.
Floyd O. May,
General Deputy Assistant Secretary for Fair Housing and Equal Opportunity.

[FR Doc. 03-19784 Filed 8-1-03; 8:45 am]

BILLING CODE 4210-28-P